FEDERAL COMMUNICATIONS COMMISSION

47 CFR Part 73

[MM Docket No. 99-25; FCC 07-204]

Creation of a Low Power Radio Service

AGENCY: Federal Communications Commission.

ACTION: Final rule; announcement of effective date.

SUMMARY: In this document, the Commission announces that the Office of Management and Budget (OMB) has approved, for a period of three years, the revised information collections associated with the Creation of a Low Power Radio Service. This notice is consistent and satisfies the Ordering Clause of the Report and Order published at 73 FR 3202-02, on January 17, 2008, which stated that changes to FCC Form 314, Application for Consent to Assignment of Broadcast Station Construction Permit or License and FCC Form 315, Application for Consent to Transfer Control of Entity Holding Broadcast Station Construction Permit or License, OMB Control Number 3060-0031, will become effective 60 days after a notice is published in the Federal Register announcing OMB approval of the forms.

DATES: FCC Forms 314 and 315 are effective September 12, 2008.

FOR FURTHER INFORMATION CONTACT: Peter Doyle or Kelly Donohue, Audio Division, Media Bureau at (202) 418-2700.

SUPPLEMENTARY INFORMATION: This document announces that, on June 23, 2008, OMB approved, for a period of three years, the revised information collection requirements resulting in changes to FCC Forms 314 and 315 contained in the Commission's Report and Order concerning the Creation of a Low Power Radio Service, FCC 07-204, published at 73 FR 3202-02, January 17, 2008. The OMB Control Number is 3060-0031 for both FCC Forms 314 and 315. The Commission publishes this notice as an announcement of the effective date of the forms and announcement of OMB approval for the information collections. If you have any comments on the burden estimates listed below, or how the Commission can improve the collections and reduce any burdens caused thereby, please write to Cathy Williams, Federal Communications Commission, Room 1-C823, 445 12th Street, SW., Washington, DC 20554. Please include the OMB Control Number 3060-0031 in your correspondence. The Commission will also accept your comments via the Internet if you send them to PRA@fcc.gov. To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the FCC is notifying the public that it received OMB approval on June 23, 2008, for the revised information collection requirements resulting in changes to FCC Forms 314 and 315. The OMB Control Number assigned to the information collections is 3060-0031. For revisions to Forms 314 and 315 the total annual reporting burden for respondents for these collections of information, including the time for gathering and maintaining the collection of information, is estimated to be: 4,510 respondents, total annual burden hours of 18,790 hours, and $33,989,570 in total annual costs.

Under 5 CFR 1320, an agency may not conduct or sponsor a collection of information unless it displays a current, valid OMB Control Number.

No person shall be subject to any penalty for failing to comply with a collection of information subject to the Paperwork Reduction Act that does not display a valid OMB Control Number. The foregoing notice is required by the Paperwork Reduction Act of 1995, Public Law 104-13, October 1, 1995, 44 U.S.C. 3507.

Federal Communications Commission.
Marlene H. Dortch,
Secretary.

[FR Doc. E8-15845 Filed 7-11-08; 8:45 am]

BILLING CODE 6712-01-P